INTERNATIONAL TRADE COMMISSION

[Investigation No. 731-TA-1110 (Review)]

Sodium Hexametaphosphate From China; Determination

On the basis of the record ¹ developed in the subject five-year review, the United States International Trade Commission (Commission) determines, pursuant to section 751(c) of the Tariff Act of 1930 (19 U.S.C. 1675(c)), that revocation of the antidumping duty order on sodium hexametaphosphate from China would be likely to lead to continuation or recurrence of material injury to an industry in the United States within a reasonably foreseeable time.

¹ The record is defined in sec. 207.2(f) of the Commission=s Rules of Practice and Procedure (19 CFR 207.2(f)).

Background

The Commission instituted this review on February 1, 2013 (78 FR 7452) and determined on May 7, 2013, that it would conduct an expedited review (78 FR 31576, May 24, 2013). The Commission transmitted its determination in this investigation to the Secretary of Commerce on June 28, 2013. The views of the Commission are contained in USITC Publication 4410 (June 2013), entitled Sodium Hexametaphosphate from China: Investigation No. 731-TA-1110 (Review).

By order of the Commission.
Issued: June 28, 2013.
Lisa R. Barton,
Acting Secretary to the Commission.

[FR Doc. 2013-16093 Filed 7-3-13; 8:45 am]

BILLING CODE 7020-02-P